DEPARTMENT OF HEALTH AND HUMAN SERVICES

Centers for Disease Control and Prevention

[30Day-24-1385]

Agency Forms Undergoing Paperwork Reduction Act Review

In accordance with the Paperwork Reduction Act of 1995, the Centers for Disease Control and Prevention (CDC) has submitted the information collection request titled “Characteristics of Cases of Priority Fungal Diseases” to the Office of Management and Budget (OMB) for review and approval. CDC previously published a “Proposed Data Collection Submitted for Public Comment and Recommendations” notice on December 11, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Characteristics of Cases of Priority Fungal Diseases (OMB Control No. 0920-1385, Exp. 3/31/2026)—Revision—National Center for Emerging and Zoonotic Infectious Diseases (NCEZID), Centers for Disease Control and Prevention (CDC).

Background and Brief Description

Fungal diseases cause substantial illness, ranging from mild infection to severe or life-threatening invasive disease. They also constitute a considerable financial burden on patients and healthcare systems. Awareness of fungal diseases is low, and data collection has historically been limited in size, scope, and coordination, which has hindered our understanding of these diseases. Detailed epidemiologic and clinical data are critical to inform appropriate public health responses. We plan to enhance surveillance of high priority fungal diseases across the United States to better characterize factors such as disease burden, geographic scope, patient risk factors, health disparities, healthcare utilization, outcomes, and emerging trends. This project will serve as a Revision of the information collections project: Triazole-resistant Aspergillus fumigatus Case Report Form (CRF). The Revision will expand the number of fungal diseases for which data may be collected.

CDC requests to change the name of this information collection project from Triazole-resistant Aspergillus fumigatus Case Report Form to Characteristics of Cases of Priority Fungal Diseases. In addition to triazole-resistant A. fumigatus infections, CRFs have also been developed for coccidioidomycosis, histoplasmosis, blastomycosis, C. auris, and antifungal-resistant dermatophytosis. We plan to use standardized CRFs to collect public health surveillance data for cases of these diseases regarding demographics (e.g., age, sex, race/ethnicity, location of residence), underlying medical conditions, diagnosis (e.g., clinical presentation, laboratory testing), treatments, and outcomes (e.g., hospitalization, vital status). The corresponding CRF would be filled out voluntarily by State and local health departments and contains a section for medical chart review and an optional supplemental interview (including data on potential occupational or environmental exposures) of the patient or their representative. Findings can help identify populations at higher risk of these diseases, detect emerging epidemiologic trends, and guide prevention and response efforts. They can also help better focus public and healthcare provider outreach, inform efforts to contain or mitigate spread, and influence health policy and research on prevention and treatment.

CDC requests OMB approval for an estimated 1,138 annual burden hours. There is no cost to respondents other than their time to participate.

Estimated Annualized Burden Hours

Type of respondent | Form name | Number of respondents | Number of responses per respondent | Average burden per response (in hours)
State and Local Health Departments | Triazole-resistant Aspergillus fumigatus Case Report Form | 15 | 15 | 0.5
State and Local Health Departments | Coccidioidomycosis Case Report Form | 10 | 25 | 1.0
State and Local Health Departments | Histoplasmosis Case Report Form | 10 | 25 | 1.0
State and Local Health Departments | Blastomycosis Case Report Form | 10 | 25 | 1.0
State and Local Health Departments | Candida auris Case Report Form | 15 | 20 | 45/60
State and Local Health Departments | Antifungal-resistant dermatophytosis case report form | 10 | 10 | 0.5

Jeffrey M. Zirger,
Lead, Information Collection Review Office, Office of Public Health Ethics and Regulations, Office of Science, Centers for Disease Control and Prevention.

[FR Doc. 2024-05387 Filed 3-13-24; 8:45 am]

BILLING CODE 4163-18-P